DEPARTMENT OF THE TREASURY

Submission for OMB Review; Comment Request

January 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 26, 2001 to be assured of consideration.

Internal Revenue Service (IRS)

OMB Number: 1545-0159.

Form Number: IRS Form 3520.

Type of Review: Extension.

Title: Annual Return To Report Transactions With Foreign Trusts and Receipt of Certain Foreign Gifts.

Description: Form 3520 is filed by U.S. persons who create a foreign trust, transfer property to a foreign trust, receive distribution from a foreign trust, or receive a large gift from a foreign source. IRS uses the form to identity the U.S. persons who may have transactions that may trigger a taxable event in the future.

Respondents: Business or other for-profit.

Estimated Number of Respondents/Recordkeepers:

Recordkeeping—42 hr., 34 min.

Learning about the law or the form-4 hr., 38 min.

Preparing the form-6 hr., 28 min.

Sending the form to the IRS-16 min.

Estimated Burden Hours Per Respondent/Recordkeeper: 2,000.

Frequency of Response: Annually.

Estimated Total Reporting/Recordkeeping Burden: 107,880 hours.

OMB Number: 1545-0732.

Regulation Project Number: LR-236-81 Final (TD 8251).

Type of Review: Extension.

Title: Credit for Increasing Research Activity.

Description: This information is necessary to comply with requirements of Code section 41 (section 44F before change by TRA 1984 and section 30 before change by TRA 1986) which describes the situations in which a taxpayer is entitled to an income tax credit for increases in research activity.

Respondents: Business or other for-profit.

Estimated Number of Respondents: 250.

Estimated Burden Hours Per Respondent: 15 hours.

Frequency of Response: On occasion.

Estimated Total Reporting Burden: 63 hours.

OMB Number: 1545-0889.

Form Number: IRS Forms 8275 and 8275-R.

Type of Review: Extension.

Title: Disclosure Statement (8275); and Regulation Disclosure Statement (8275-R).

Description: Internal Revenue Code (IRC) section 6662 imposes accuracy related penalties for substantial understatement of tax liability or negligence or disregard of rules and regulations. Sections. Section 6694 imposes similar penalties on return preparers. Regulations sections 1.662-4(e) and (f) provide for reduction of these penalties if adequate disclosure of the tax treatment is made on Form 8275 or, if the position is contrary to a regulation on Form 8275-R.

Respondents: Individuals or households, Business or other for-profit, Not-for-profit institutions, Farms.

Estimated Number of Respondents/Recordkeepers: 595,000.

Estimated Burden Hours Per Respondent/Recordkeeper:

Recordkeeping—3 hr., 35 min.

Learning about the law or the form—1 hr., 0 min.

Preparing and sending the form to the IRS—1 hr., 6 min.

Frequency of Response: Annually.

Estimated Total Reporting/Recordkeeping Burden: 5,575,000 hours.

OMB Number: 1545-1224.

Regulation Project Number: INTL-112-88 Final.

Type of Review: Extension.

Title: Allocation and Apportionment of Deduction for State Income Taxes.

Description: This regulation provides guidance on when and how the deduction for state income taxes is to be allocated and apportioned between gross income from sources within and without the United States in order to determine the amount of taxable income from those sources. The reporting requirements in the regulation affect those taxpayers claiming foreign tax credits who elect to use an alternative method from that described in the regulation to allocate and apportion deductions for state income taxes.

Respondents: Business or other for-profit.

Estimated Number of Respondents: 1,000.

Estimated Burden Hours Per Respondent: 1 hour.

Frequency of Response: Annually.

Estimated Total Reporting Burden: 1,000 hours.

OMB Number: 1545-1587.

Form Number: None.

Type of Review: Extension.

Title: 2001 Electronic Tax Administration Attitudinal Tracking Study.

Description: The survey is being conducted to measure changes to baseline measures of public knowledge and acceptance of Electronic Tax Administration programs and to provide the IRS with quantitative data and analysis to assist with making policy decisions on who to expand the programs.

Respondents: Individuals or households.

Estimated Number of Respondents: 1,100.

Estimated Burden Hours Per Respondent: 15 minutes.

Frequency of Response: Annually.

Estimated Total Reporting Burden: 275 hours.

OMB Number: 1545-1590.

Regulation Project Number: REG-251698-96 Final.

Type of Review: Extension.

Title: Subchapter S Subsidiaries.

Description: The IRS will use the information provided by taxpayers to determine whether a corporation should be treated as an S corporation, a C corporation, or an entity that is disregarded for federal tax purposes. The collection of information covered in the regulation is necessary for a taxpayer to obtain, retain, or terminate S corporation treatment.

Respondents: Business or other for-profit, Individuals or households, Farms.

Estimated Number of Respondents/Recordkeepers: 10,660.

Estimated Burden Hours Per Respondent/Recordkeepers: 57 minutes.

Frequency of Response: On occasion.

Estimated Total Reporting/Recordkeeping Burden: 10,110 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 01-2225 Filed 1-24-01; 8:45 am]

BILLING CODE 4830-01-P